DEPARTMENT OF TRANSPORTATION

Federal Aviation Administration

14 CFR Part 39

[Docket No. FAA-2013-0692; Directorate Identifier 2012-NM-024-AD]

RIN 2120-AA64

Airworthiness Directives; Airbus Airplanes

AGENCY: Federal Aviation Administration (FAA), DOT.

ACTION: Supplemental notice of proposed rulemaking (NPRM); reopening of comment period.

SUMMARY: We are revising an earlier proposed airworthiness directive (AD) for all Airbus Model A318, A319, A320, and A321 series airplanes. The NPRM proposed to supersede AD 2011-14-06 and proposed revising the maintenance program. The NPRM was prompted by the determination that more restrictive limitations are necessary. This action revises the NPRM by revising the maintenance program to incorporate new limitations. We are proposing this AD to prevent fatigue cracking, accidental damage, or corrosion in principal structural elements, and possible failure of certain life limited parts, which could result in reduced structural integrity of the airplane. Since these actions impose an additional burden over that proposed in the NPRM, we are reopening the comment period to allow the public the chance to comment on these proposed changes.

DATES: We must receive comments on this proposed AD by July 14, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Comments Invited

We invite you to send any written relevant data, views, or arguments about this proposed AD. Send your comments to an address listed under the ADDRESSES section. Include “Docket No. FAA-2013-0692; Directorate Identifier 2012-NM-024-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We proposed to amend 14 CFR part 39 with an earlier NPRM for the specified products, which was published in the Federal Register on August 13, 2013 (78 FR 49213). The NPRM proposed to supersede AD 2011-14-06, Amendment 39-16741 (76 FR 42024, July 18, 2011), to require actions intended to address the unsafe condition for Airbus Model A318, A319, A320, and A321 series airplanes.

Since the NPRM (78 FR 49213, August 13, 2013) was issued, it has been determined that more restrictive limits are needed for damage tolerant airworthiness limitation items. This supplemental notice of proposed rulemaking (SNPRM) would require revising the maintenance program to incorporate new limitations.

The European Aviation Safety Agency (EASA), which is the Technical Agent for the Member States of the European Community, has issued EASA Airworthiness Directive 2013-0147, dated July 16, 2013 (referred to after this as the Mandatory Continuing Airworthiness Information, or “the MCAI”), to correct an unsafe condition for the specified products. The MCAI states:

The airworthiness limitations for Airbus A320 family aeroplanes are currently included in Airbus A318/A319/A320/A321 Airworthiness Limitations Section (ALS) document. The airworthiness limitations applicable to the Damage Tolerant Airworthiness Limitation Items (DT ALI) are currently given in Airbus ALS Part 2, which is approved by EASA.

Previously, EASA issued AD 2010-0071R1 [http://ad.easa.europa.eu/blob/easa_ad_2010_0071_R1.pdf/AD_2010-0071R1_1] [associated with FAA AD 2011-14-06, Amendment 39-16741 (76 FR 42024, July 18, 2011)], which required the implementation of the DT ALI maintenance instructions as specified in Airbus A318/A319/A320/A321 ALI Document ref. AI/SE-M4/95A.0252/96 issue 10 and Airbus A319 Corporate Jet ALI Document ref. AI/SE-M2/95A.1038/99.

The new Airbus A318/A319/A320/A321 ALS Part 2 Revision 02, which includes also Airbus A319 Corporate Jet, introduces more restrictive DT ALI maintenance instructions. Failure to comply with these instructions could result in an unsafe condition.

Application of new DT ALI tasks 531129-02-2 and 531129-02-3 introduces initial and repetitive inspections of the windshield central lower node continuity fittings, replacing the one time inspection for that subject, previously required by EASA AD 2011-0231 [http://ad.easa.europa.eu/blob/easa_ad_2011_0231.pdf] [associated with FAA AD 2013-13-03, Amendment 39-17491 (78 FR 41280, July 10, 2013)].

For the reasons described above, this [EASA] AD retains the requirements of EASA AD 2010-0071R1 * * *, which are superseded, and requires compliance with all maintenance tasks as described in Airbus A318/A319/A320/A321 ALS part 2 at Revision 02.

The unsafe condition is fatigue cracking, accidental damage, or corrosion in principal structural elements and possible failure of certain life limited parts, which could result in reduced structural integrity of the airplane. You may examine the MCAI in the AD docket on the Internet at http://www.regulations.gov by searching for and locating it in Docket No. FAA-2013-0692.

Relevant Service Information

Airbus has issued A318/A319/A320/A321 ALS Part 2—Damage-Tolerant Airworthiness Limitation Items (DT ALI), Revision 02, dated May 28, 2013. The actions described in this service information are intended to correct the unsafe condition identified in the MCAI.

Comments

We gave the public the opportunity to comment on the NPRM (78 FR 49213, August 13, 2013). The following presents the comments received on the NPRM and the FAA's response to each comment.

Request To Incorporate Airbus A318/A319/A320/A321 ALS Part 2, Revision 02, Dated May 28, 2013, in Paragraph (m) of the NPRM (78 FR 49213, August 13, 2013)

American Airlines (AAL) requested that we either delete the phrase “doing the actions required by paragraph (m) of this AD terminates the requirements of this paragraph,” from paragraph (i) of the NPRM (78 FR 49213, August 13, 2013), or incorporate Airbus A318/A319/A320/A321 ALS Part 2—Damage-Tolerant Airworthiness Limitation Items (DT ALI), Revision 02, dated May 28, 2013, in paragraph (m) of the NPRM. The commenter stated that paragraph (m) of the NPRM does not require incorporation of Airbus A318/A319/A320/A321 ALS Part 2, Revision 02, dated May 28, 2013; therefore, incorporating paragraph (m) would not fully terminate requirements of paragraph (i) of the NPRM.

We agree to revise the final rule by adding the incorporation of Airbus A318/A319/A320/A321 ALS Part 2—Damage-Tolerant Airworthiness Limitation Items (DT ALI), Revision 02, dated May 28, 2013, to paragraph (p) of this SNPRM.

Request To Incorporate Airbus A318/A319/A320/A321 ALS Part 3—Certification Maintenance Requirements (CMR), Revision 01, Dated June 15, 2012; in Paragraph (m) of the NPRM (78 FR 49213, August 13, 2013)

AAL requested that we incorporate Airbus ALS Part 3—CMR, Revision 01, dated June 15, 2012; in paragraph (m) of the NPRM (78 FR 49213, August 13, 2013).

We acknowledge that the latest approved CMR has been released; however, we disagree to revise this SNPRM. EASA has issued a separate AD 2013-0148, dated July 16, 2013 to require Airbus ALS Part 3—CMR, Revision 01, dated June 15, 2012. Therefore, we are considering separate rulemaking for mandating Airbus ALS Part 3—CMR, Revision 01, dated June 15, 2012. No change has been made to this SNPRM in this regard.

Request To Incorporate Airbus A318/A319/A320/A321 ALS Part 4—Ageing Systems Maintenance (ASM), Revision 01, Dated June 15, 2012 in Paragraph (m) of the NPRM (78 FR 49213, August 13, 2013)

Airbus and AAL requested that we revise paragraph (m) of the NPRM (78 FR 49213, August 13, 2013) to incorporate Airbus A318/A319/A320/A321 ALS Part 4—ASM, Revision 01, dated June 15, 2012. Airbus stated that the NPRM mentions Airbus A318/A319/A320/A321 ALS Part 4—ASM, dated January 8, 2008; however, Airbus A318/A319/A320/A321 ALS Part 4—ASM, Revision 01, dated June 15, 2012, introduces the extended service goal 1 (ESG1) exercise which allows continued operation of the A320-200 systems post-modification 39020 at a different compliance time.

We acknowledge that the latest approved ALS Part 4 has been released; however, we disagree to revise this SNPRM. EASA has issued EASA AD 2013-0146, dated July 16, 2013 to require Airbus A318/A319/A320/A321 ALS Part 4—ASM, Revision 01, dated June 15, 2012. Therefore, we might consider separate rulemaking for mandating Airbus A318/A319/A320/A321 ALS Part 4—ASM, Revision 01, dated June 15, 2012. No change has been made to this SNPRM in this regard.

Retained Paragraph of AD 2011-14-06, Amendment 39-16741 (76 FR 42024, July 18, 2011)

The NPRM (78 FR 49213, August 13, 2013) did not retain paragraph (h) of AD 2011-14-06, Amendment 39-16741 (76 FR 42024, July 18, 2011). We have retained that paragraph as paragraph (h) of this SNPRM and have re-designated the subsequent paragraphs accordingly.

Differences Between This Proposed AD and the MCAI or Service Information

The MCAI specifies that if there are findings from the ALS inspection tasks, corrective actions must be accomplished in accordance with Airbus maintenance documentation. However, this proposed AD does not include that requirement. Operators of U.S.-registered airplanes are required by general airworthiness and operational regulations to perform maintenance using methods that are acceptable to the FAA. We consider those methods to be adequate to address any corrective actions necessitated by the findings of ALS inspections required by this proposed AD.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Certain changes described above expand the scope of the NPRM (78 FR 49213, August 13, 2013). As a result, we have determined that it is necessary to reopen the comment period to provide additional opportunity for the public to comment on this proposed AD.

Costs of Compliance

We estimate that this proposed AD affects 851 airplanes of U.S. registry.

We estimate the following costs to comply with this proposed AD.

The actions that are required by AD 2011-14-06, Amendment 39-16741 (76 FR 42024, July 18, 2011), and retained in this proposed AD take about 1 work-hour per product, at an average labor rate of $85 per work-hour. Based on these figures, the estimated cost of the required actions is $85 per product.

We also estimate that it would take about 1 work-hour per product to comply with the basic requirements of this proposed AD. The average labor rate is $85 per work-hour. Based on these figures, we estimate the cost of this proposed AD on U.S. operators to be $72,335, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing Airworthiness Directive (AD) 2011-14-06, Amendment 39-16741 (76 FR 42024, July 18, 2011) and by adding the following new AD:

Airbus: Docket No. FAA-2013-0692; Directorate Identifier 2012-NM-024-AD.

(a) Comments Due Date

We must receive comments by July 14, 2014.

(b) Affected ADs

This AD supersedes AD 2011-14-06, Amendment 39-16741 (76 FR 42024, July 18, 2011).

(c) Applicability

This AD applies to all Airbus Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes; certificated in any category.

(d) Subject

Air Transport Association (ATA) of America Code 05, Periodic inspections.

(e) Reason

This AD was prompted by a determination that more restrictive limitations are necessary. We are issuing this AD to prevent fatigue cracking, accidental damage, or corrosion in principal structural elements, and possible failure of certain life limited parts, which could result in reduced structural integrity of the airplane.

(f) Compliance

Comply with this AD within the compliance times specified, unless already done.

(g) Retained Revision of Airworthiness Limitations Section (ALS) To Incorporate Safe Life ALIs

This paragraph restates the requirements of paragraph (g) of AD 2011-14-06, Amendment 39-16741 (76 FR 42024, July 18, 2011). For Model A318-111 and -112 airplanes; Model A319-111, -112, -113, -114, -115, -131, -132, and -133 airplanes; Model A320-111, -211, -212, -214, -231, -232, and -233 airplanes; and Model A321-111, -112, -131, -211, -212, -213, -231, and -232 airplanes: Within 3 months after November 7, 2007 (the effective date of AD 2007-20-05, Amendment 39-15215 (72 FR 56262, October 3, 2007)), revise the ALS of the Instructions for Continued Airworthiness to incorporate Sub-part 1-2, “Life Limits,” and Sub-part 1-3, “Demonstrated Fatigue Lives,” of Airbus A318/A319/A320/A321 ALS Part 1—Safe Life Airworthiness Limitation Items, dated February 28, 2006. Accomplish the actions in Sub-part 1-2, “Life Limits,” and Sub-part 1-3, “Demonstrated Fatigue Lives,” of Airbus A318/A319/A320/A321 ALS Part 1—Safe Life Airworthiness Limitation Items, dated February 28, 2006, at the times specified in Sub-part 1-2, “Life Limits,” and Sub-part 1-3, “Demonstrated Fatigue Lives,” of Airbus A318/A319/A320/A321 ALS Part 1—Safe Life Airworthiness Limitation Items, dated February 28, 2006, except as provided by paragraph (i) of this AD. Doing the actions required by paragraph (n) of this AD terminates the requirements of this paragraph.

(h) Retained Revision to ALS To Incorporate Damage Tolerant ALIs

This paragraph restates certain provisions of paragraph (h) of AD 2011-14-06, Amendment 39-16741 (76 FR 42024, July 18, 2011). For Model A318-111 and -112 airplanes; Model A319-111, -112, -113, -114, -115, -131, -132, and -133 airplanes; Model A320-111, -211, -212, -214, -231, -232, and -233 airplanes; and Model A321-111, -112, -131, -211, -212, -213, -231, and -232 airplanes; except Model A319 airplanes on which Airbus Modifications 28238, 28162, and 28342 have been incorporated in production: Within 14 days after November 7, 2007 (the effective date of AD 2007-20-05, Amendment 39-15215 (72 FR 56262, October 3, 2007)), revise the ALS of the Instructions for Continued Airworthiness To Incorporate Airbus A318/A319/A320/A321 Airworthiness Limitation Items, Document AI/SE-M4/95A.0252/96, Issue 7, dated December 2005 (approved by the EASA on February 7, 2006); Issue 08, dated March 2006 (approved by the EASA on January 4, 2007); or Issue 09, dated November 2006 (approved by the EASA on May 21, 2007). Accomplish the actions in Airbus A318/A319/A320/A321 Airworthiness Limitation Items, Document AI/SE-M4/95A.0252/96, Issue 7, dated December 2005; Issue 08, dated March 2006; or Issue 09, dated November 2006; at the times specified in Airbus A318/A319/A320/A321 Airworthiness Limitation Items, Document AI/SE-M4/95A.0252/96, Issue 7, dated December 2005; Issue 08, dated March 2006; or Issue 09, dated November 2006; as applicable; except as provided by paragraph (i) of this AD. Doing the actions required by paragraph (j) of this AD terminates the requirements of this paragraph. Doing the actions required by paragraph (n) of this AD terminates the requirements of this paragraph.

(i) Retained Grace Period for New or More Restrictive Actions

This paragraph restates certain provisions of paragraph (i) of AD 2011-14-06, Amendment 39-16741 (76 FR 42024, July 18, 2011). For Model A318-111 and -112 airplanes; Model A319-111, -112, -113, -114, -115, -131, -132, and -133 airplanes; Model A320-111, -211, -212, -214, -231, -232, and -233 airplanes; and Model A321-111, -112, -131, -211, -212, -213, -231, and -232 airplanes: For any new or more restrictive life limit introduced with Sub-part 1-2, “Life Limits,” and Sub-part 1-3, “Demonstrated Fatigue Lives,” of Airbus A318/A319/A320/A321 ALS Part 1—Safe Life Airworthiness Limitation Items, dated February 28, 2006, replace the part at the time specified in Sub-part 1-2, “Life Limits,” and Sub-part 1-3, “Demonstrated Fatigue Lives,” of Airbus A318/A319/A320/A321 ALS Part 1—Safe Life Airworthiness Limitation Items, dated February 28, 2006, or within 6 months after November 7, 2007 (the effective date of AD 2007-20-05, Amendment 39-15215 (72 FR 56262, October 3, 2007)), whichever is later. Accomplishing the actions required by paragraph (n) of this AD terminates the requirements of this paragraph.

(j) Retained Revision of ALS To Incorporate Damage-Tolerant ALIs With Revised Compliance Times

This paragraph restates the requirements of paragraph (j) of AD 2011-14-06, Amendment 39-16741 (76 FR 42024, July 18, 2011), with revised compliance times. Within 9 months after August 22, 2011 (the effective date of AD 2011-14-06): Revise the maintenance program by incorporating all maintenance requirements and associated airworthiness limitations specified in the Airbus A318/A319/A320/A321 Airworthiness Limitation Items, Document AI/SE-M4/95A.0252/96, Issue 10, dated October 2009; or Issue 11, dated September 2010. Comply with all applicable maintenance requirements and associated airworthiness limitations included in Airbus A318/A319/A320/A321 Airworthiness Limitation Items, Document AI/SE-M4/95A.0252/96, Issue 10, dated October 2009; or Issue 11, dated September 2010; except as provided by paragraph (k) of this AD. Doing the actions required by this paragraph terminates the requirements of paragraph (h) of this AD. Accomplishing the actions required by paragraph (n) of this AD terminates the requirements of this paragraph.

(k) Retained Special Compliance Times for Certain Tasks

This paragraph restates the requirements of paragraph (k) of AD 2011-14-06, Amendment 39-16741 (76 FR 42024, July 18, 2011), with changes to table 1 to paragraph (k) of this AD. For new and more restrictive tasks introduced with Airbus A318/A319/A320/A321 Airworthiness Limitation Items, Document AI/SE-M4/95A.0252/96, Issue 10, dated October 2009; or Issue 11, dated September 2010; as specified in table 1 to paragraph (k) of this AD: The initial compliance time for doing the tasks is specified in table 1 to paragraph (k) of this AD. Accomplishing the actions specified in paragraph (n) of this AD terminates the requirements of this paragraph.

Table 1—To Paragraph (k) of This AD—Compliance Times for Tasks
Task | Applicability (as specified in the applicability column of the task) | Compliance time, whichever occurs later
545102-01-6 | Group 19-1A CFM, Group 19-1B CFM, and Model A320-200 airplanes with CFM Industrial (CFM)/International Aero Engine (IAE) engines | The threshold as defined in Airbus A318/A319/A320/A321 Airworthiness Limitation Items, Document AI/SE-M4/95A.0252/96, Issue 10, dated October 2009; or Issue 11, dated September 2010 | Within 2,000 flight cycles or 5,500 flight hours, after August 22, 2011 (the effective date of AD 2011-14-06, Amendment 39-16741 (76 FR 42024, July 18, 2011)), whichever occurs first.
545102-01-7 | Model A320-100 series airplanes | The threshold as defined in Airbus A318/A319/A320/A321 Airworthiness Limitation Items, Document AI/SE-M4/95A.0252/96, Issue 10, dated October 2009; or Issue 11, dated September 2010 | Within 2,000 flight cycles or 2,000 flight hours, after August 22, 2011 (the effective date of AD 2011-14-06, Amendment 39-16741 (76 FR 42024, July 18, 2011)), whichever occurs first.
572050-01-1 or alternative task 572050-02-1 | Group 19-1A and Group 19-1B airplanes | At the time of the next due accomplishment of any one of the tasks 572004, 572020, or 572053 as currently described in the Airbus A318/A319/A320/A321 Airworthiness Limitation Items, Document AI/SE-M4/95A.0252/96, Issue 7, dated December 2005; Issue 08, dated March 2006; or Issue 09, dated November 2006 | Within 6 months after August 22, 2011 (the effective date of AD 2011-14-06, Amendment 39-16741 (76 FR 42024, July 18, 2011)).
572050-01-4 or alternative task 572050-02-4 | Model A320-200 series airplanes | At the time of the next due accomplishment of any one of the tasks 572004, 572020, or 572053 as currently described in the Airbus A318/A319/A320/A321 Airworthiness Limitation Items, Document AI/SE-M4/95A.0252/96, Issue 7, dated December 2005; Issue 08, dated March 2006; or Issue 09, dated November 2006 | Within 6 months after August 22, 2011 (the effective date of AD 2011-14-06, Amendment 39-16741 (76 FR 42024, July 18, 2011)).
572050-01-5 or alternative task 572050-02-5 | Group 21-1A airplanes | At the time of the next due accomplishment of any one of the tasks 572004, 572020, or 572053 as currently described in the Airbus A318/A319/A320/A321 Airworthiness Limitation Items, Document AI/SE-M4/95A.0252/96, Issue 7, dated December 2005; Issue 08, dated March 2006; or Issue 09, dated November 2006 | Within 6 months after August 22, 2011 (the effective date of AD 2011-14-06, Amendment 39-16741 (76 FR 42024, July 18, 2011)).

Table 1—To Paragraph (k) of This AD—Compliance Times for Tasks—Continued
Task | Applicability (as specified in the applicability column of the task) | Compliance time, whichever occurs later
572050-01-7 or alternative task 572050-02-7 | Model A320-100 series airplanes | At the time of the next due accomplishment of any one of the tasks 572004, 572020, or 572053 as currently described in the Airbus A318/A319/A320/A321 Airworthiness Limitation Items, Document AI/SE-M4/95A.0252/96, Issue 7, dated December 2005; Issue 08, dated March 2006; or Issue 09, dated November 2006 | Within 6 months after August 22, 2011 (the effective date of AD 2011-14-06, Amendment 39-16741 (76 FR 42024, July 18, 2011)).
534132-01-1 | Model A320 PRE 30748 airplanes | The threshold/interval as defined in Airbus A318/A319/A320/A321 Airworthiness Limitation Items, Document AI/SE-M4/95A.0252/96, Issue 10, dated October 2009; or Issue 11, dated September 2010 | Within 100 days after August 22, 2011 (the effective date of AD 2011-14-06, Amendment 39-16741 (76 FR 42024, July 18, 2011)), without exceeding the previous threshold/interval as defined in Airbus A318/A319/A320/A321 Airworthiness Limitation Items, Document AI/SE-M4/95A.0252/96, Issue 7, dated December 2005; Issue 08, dated March 2006; or Issue 09, dated November 2006.
531118-01-1 | Model A318 (except (A318-121 and -122), Group 19-1A, Group 19-1B, and Model A320 and A321 series airplanes | The threshold/interval as defined in Airbus A318/A319/A320/A321 Airworthiness Limitation Items, Document AI/SE-M4/95A.0252/96, Issue 10, dated October 2009; or Issue 11, dated September 2010 | Within 100 days after August 22, 2011 (the effective date of AD 2011-14-06, Amendment 39-16741 (76 FR 42024, July 18, 2011)), without exceeding the previous threshold/interval as defined in Airbus A318/A319/A320/A321 Airworthiness Limitation Items, Document AI/SE-M4/95A.0252/96, Issue 7, dated December 2005; Issue 08, dated March 2006; or Issue 09, dated November 2006.
531118-01-1 | Model A318-121 and -122 airplanes | The threshold/interval as defined in Airbus A318/A319/A320/A321 Airworthiness Limitation Items, Document AI/SE-M4/95A.0252/96, Issue 10, dated October 2009; or Issue 11, dated September 2010 | Within 100 days after August 22, 2011 (the effective date of AD 2011-14-06, Amendment 39-16741 (76 FR 42024, July 18, 2011)).

Note 1 to table 1 to paragraph (k) of this AD: ALI Task 572050 refers to the outer wing dry bay and is comprised of extracts from three ALI Tasks 572004, 572020, and 572053. The threshold of ALI Task 572050 for the whole dry bay area is that of the lowest threshold of the source ALI tasks, i.e., that of ALI Task 572053.

(l) Retained Limitation: No Alternative Life Limits, Inspections, or Inspection Intervals After Accomplishment of the Actions Specified in Paragraphs (g) and (h) of This AD

This paragraph restates the requirements of paragraph (l) of AD 2011-14-06, Amendment 39-16741 (76 FR 42024, July 18, 2011). After the actions specified in paragraphs (g) and (h) of this AD have been accomplished, no alternative life limits, inspections, or inspection intervals may be used, except as provided by paragraphs (i) and (m) of this AD, and except as required by paragraphs (j) and (n) of this AD.

(m) Retained Limitation: No Alternative Life Limits, Inspections, or Inspection Intervals After Accomplishment of the Actions Specified in Paragraph (j) of This AD

This paragraph restates the requirements of paragraph (m) of AD 2011-14-06, Amendment 39-16741 (76 FR 42024, July 18, 2011). After the actions specified in paragraph (j) of this AD have been accomplished, no alternative life limits, inspections, or inspection intervals may be used, except as required by paragraph (n) of this AD.

(n) New Maintenance or Inspection Program Revision

Within 30 days after the effective date of this AD, revise the maintenance or inspection program, as applicable, to incorporate the Airworthiness Limitation Items specified in paragraphs (n)(1), (n)(2), and (n)(3) of this AD. The initial compliance time for the accomplishing the actions is at the applicable time specified in Airworthiness Limitation Items specified in paragraphs (n)(1), (n)(2), and (n)(3) of this AD; or within 4 months after the effective date of this AD; whichever occurs later. Doing these actions terminates the requirements of paragraphs (g), (h), (i), (j), and (k) of this AD.

(1) Airbus A318/A319/A320/A321 ALS Part 1—Safe Life Airworthiness Limitation Items, Revision 02, dated May 13, 2011.

(2) Airbus A318/A319/A320/A321 ALS Part 2—Damage-Tolerant Airworthiness Limitation Items (DT ALI), Revision 02, dated May 28, 2013.

(3) Airbus A318/A319/A320/A321 ALS Part 4—Ageing Systems Maintenance, dated January 8, 2008.

(o) New Limitation: No Alternative Actions, Intervals, and/or Critical Design Configuration Control Limitations (CDCCLs)

After accomplishing the revision required by paragraph (n) of this AD, no alternative actions (e.g., inspections), intervals, and/or CDCCLs may be used unless the actions, intervals, and/or CDCCLs are approved as an alternative method of compliance (AMOC) in accordance with the procedures specified in paragraph (p)(1) of this AD.

(p) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD. AMOCs approved previously for AD 2011-14-06, Amendment 39-16741 (76 FR 42024, July 18, 2011), are approved as AMOCs for the corresponding actions specified in this AD.

(2) Airworthy Product: For any requirement in this AD to obtain corrective actions from a manufacturer, use these actions if they are FAA-approved. Corrective actions are considered FAA-approved if they were approved by the State of Design Authority (or its delegated agent, or the DAH with a State of Design Authority's design organization approval). You are required to ensure the product is airworthy before it is returned to service.

(q) Related Information

(1) Refer to Mandatory Continuing Airworthiness Information (MCAI) EASA Airworthiness Directive 2012-0008, dated January 16, 2012; and 2013-0147, dated July 16, 2013; for related information. This MCAI may be found in the AD docket on the Internet at http://www.regulations.gov by searching for and locating it in Docket No. FAA-2013-0692.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Issued in Renton, Washington, on May 15, 2014.
Michael Kaszycki,
Acting Manager, Transport Airplane Directorate, Aircraft Certification Service.

[FR Doc. 2014-12251 Filed 5-27-14; 8:45 am]

BILLING CODE 4910-13-P